DEPARTMENT OF HOMELAND SECURITY

Coast Guard

33 CFR Part 117

[Docket No. USCG-2023-0969]

RIN 1625-AA09

Drawbridge Operation Regulation; Umpqua River, Reedsport, OR

AGENCY: Coast Guard, DHS.

ACTION: Final rule.

SUMMARY: The Coast Guard is changing the name and operating schedule that governs the Central Oregon and Pacific railroad bridge across the Umpqua River, mile 11.5, at Reedsport, OR. This rule changes the name of the Central Oregon and Pacific railroad bridge; allows that bridge to be maintained in the closed to navigation position, removes the requirement for fog signals for that bridge and changes the name of the US 101 Bridge that crosses the side channel of the Umpqua River.

DATES: This rule is effective February 18, 2025.

ADDRESSES: To view documents mentioned in this preamble as being available in the docket, go to https://www.regulations.gov. Type the docket number (USCG-2023-0969) in the “SEARCH” box and click “SEARCH”. In the Document Type column, select “Supporting & Related Material.”

FOR FURTHER INFORMATION CONTACT: If you have questions on this rule, call or email Danny McReynolds, Bridge Management Specialist, Thirteenth Coast Guard District Bridge Office; telephone 206-220-7234, email d13-smb-d13-bridges@uscg.mil.

SUPPLEMENTARY INFORMATION:

I. Table of Abbreviations

CBRL Coos Bay Rail Line

CFR Code of Federal Regulations

DHS Department of Homeland Security

FR Federal Register

OMB Office of Management and Budget

NPRM Notice of Proposed Rulemaking (Advance, Supplemental)

§ Section

U.S.C. United States Code

II. Background Information and Regulatory History

On April 10, 2024, the Coast Guard published an NPRM titled “Drawbridge Operation Regulation; Umpqua River, Reedsport, OR,” in the Federal Register (89 FR 25198), to seek your comments on whether the Coast Guard should consider changing the name of the Central Oregon and Pacific railroad bridge, modifying the current operating schedule of the bridge, and removing the fog signal from the bridge. During the comment period that ended on May 28, 2024, the Coast Guard received zero comments. The subject bridge has had many owners in the past years and Coos Bay Rail Line (CBRL) has asked to change the bridge name to a local name vice a company name. The new name for the Central Oregon and Pacific railroad bridge is the Umpqua River railroad bridge.

The Umpqua River railroad bridge is currently maintained in the open to navigation position. This rule will allow the bridge to be maintained in the closed to navigation position and requires the bridge to open for marine vessels with a minimum of two-hours' advance notice. The subject bridge provides 15 feet of vertical clearance above high water in the closed position, which allows most mariners clearance to navigate under the bridge. The Umpqua River has experienced a reduction in marine traffic using the waterway while CBRL has experienced an increase in rail traffic that requires the draw to be placed in the closed position. Vessels that regularly request draw openings are two fishing vessels. These vessels transit upriver to a repair facility, and after repairs, the vessels transit down river to their normal moorings. Bridge opening notices may be made via the phone number posted on the bridge and in the CFR. Fog signals will not be required to warn vessels when the bridge is cycled open during reduced visibility.

III. Legal Authority and Need for Rule

The Coast Guard is issuing this rule under authority 33 U.S.C. 499. The Umpqua River railroad bridge across the Umpqua River, mile 11.5, at Reedsport, OR operates in accordance with 33 CFR 117.893(b). Bridge logs have shown a significant reduction in bridge opening requests for five years and the bridge is mostly cycled for maintenance. This rule is necessary to balance the needs of the railroad by reducing the need to frequently cycle the draw closed for rail traffic and back open for marine traffic while maintaining the reasonable needs of navigation.

This regulatory action is based on the ability for the Umpqua River railroad bridge to open on signal after the CBRL has received at least two-hours' notice by telephone. This rule allows any vessel that needs a draw opening to transit through the Umpqua River railroad bridge with the proper advance notice during clear visibility or reduced visibility.

IV. Discussion of Comments, Changes and the Final Rule

The Coast Guard provided a comment period of 38 days, and no comments were received. No changes were made to the content of the rule since publication of the NPRM.

This rule amends the operating schedule of the Umpqua River railroad bridge by allowing the bridge to remain closed to navigation and requiring a two-hours' advance notice for all draw openings. The rule will balance the needs to accommodate frequent rail traffic and limited marine traffic and allow the Umpqua River railroad bridge to operate with the same notice requirements as the US 101 Bridge (33 CFR 117.893(a)).

In addition to the changes proposed in the NPRM, we are making two additional non-substantive changes to the regulatory text. First, given the close physical proximity of the Umpqua River railroad bridge to the US 101 Bridge, the Coast Guard will remove paragraph (b) from the 33 CFR 117.893 and add the Umpqua River railroad bridge to paragraph (a). Mariners should not experience delays with both bridges opening their draws simultaneously. CBRL states that draw tenders live within two-hours of the subject bridge, and most draw request are submitted 24-hours in advance. With paragraph (b) combining with paragraph (a), paragraph (c) will become paragraph (b). Second, the bridge name in paragraph (c) (US 101 Bridge) is incorrect. The bridge is known as the Lower Smith River Road bridge and crosses the side channel of the Umpqua River. The Coast Guard will be correcting the name in this rule.

Currently the bridge operates fog signals to warn vessels when the bridge is cycled closed and open during reduced visibility. This rule change requires the bridge to open on signal from mariners, and therefore, the mariner would know the bridge is open and have no need to be warned of the position of the draw during fog or any reduced visibility type of weather.

We have not identified any impacts on marine navigation with this rule.

V. Regulatory Analyses

We developed this rule after considering numerous statutes and Executive Orders related to rulemaking. Below we summarize our analyses based on a number of these statutes and Executive Orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, it has not been reviewed by the Office of Management and Budget (OMB).

This regulatory action determination is based on the ability for the draw to open on signal after receiving at least two-hours advanced notice, and not delay passage of any mariner. Vessels not requiring an opening may pass under the bridge at any time.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received zero comments from the Small Business Administration on this rule. The Coast Guard certifies under 5 U.S.C. 605(b) that this rule will not have a significant economic impact on a substantial number of small entities.

While some owners or operators of vessels intending to transit the bridge may be small entities, for the reasons stated in section V. A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. There were zero comments received on the NPRM.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble. There were zero comments received on the NPRM.

F. Environment

We have analyzed this rule under Department of Homeland Security Management Directive 023-01, Rev.1, associated implementing instructions, and Environmental Planning Policy COMDTINST 5090.1 (series) which guide the Coast Guard in complying with the National Environmental Policy Act of 1969 (NEPA)(42 U.S.C. 4321-4370f). The Coast Guard has determined that this action is one of a category of actions that do not individually or cumulatively have a significant effect on the human environment. This rule promulgates the operating regulations or procedures for drawbridges and is categorically excluded from further review, under paragraph L49, of Chapter 3, Table 3-1 of the U.S. Coast Guard Environmental Planning Implementation Procedures.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and Department of Homeland Security Delegation No. 00170.1. Revision No. 01.3

2. Revise § 117.893 to read as follows:

§ 117.893 Umpqua River.

(a) The draws of the US 101 Bridge, mile 11.1, (541) 888-4340, and the Umpqua River railroad bridge, mile 11.5, (877) 928-5924, at Reedsport, Oregon, shall open on signal if at least two hours' notice is given via telephone.

(b) The draw of the Lower Smith River Road bridge across the side channel of the Umpqua River, mile 11.1 near Reedsport, need not be opened for the passage of vessels.

Dated: 11 December 2024.
Charles E. Fosse,
Rear Admiral, U. S. Coast Guard, Commander, Thirteenth Coast Guard District.

[FR Doc. 2025-00573 Filed 1-16-25; 8:45 am]

BILLING CODE 9110-04-P